DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held September 23, from 8:30 a.m.-1:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

September 23

• WELCOME AND INTRODUCTIONS

• REVIEW/APPROVE Meeting Summary

○ June 17, 2014, RTCA Paper No.167-14/PMC-1231

• PUBLICATION CONSIDERATION/APPROVAL

○ Final Draft, Revised Document, DO-252—Minimum Interoperability Standards (MIS) for Automated Meteorological Transmission (AUTOMET), RTCA Paper No. 150-14/PMC-1228, prepared by SC-206.

○ Final Draft, Change 1 to DO-236C, Minimum Aviation System Performance Standards: Required Navigation Performance for Area Navigation, RTCA Paper No. 149-14/PMC-1227, prepared by SC-227.

○ Final Draft, New Document, Airworthiness Security Methods and Considerations, RTCA Paper No.181-14/PMC-1239, prepared by SC-216.

• INTEGRATION and COORDINATION COMMITTEE (ICC)

○ Activity Report—ATC Wind Study—Status

• ACTION ITEM REVIEW

○ PMC Ad Hoc—Standards Overlap and Alignment—Discussion—Workshop Status.

○ PMC Ad Hoc—Part 23 ARC Report—Areas/Recommendations for RTCA Support—Discussion—Status.

○ RTCA Policy on Proprietary Information—Discussion

○ FAA Letter—GPS—Discussion.

• DISCUSSION

○ Human Factor Considerations in the Design and Evaluation of Flight Deck Displays and Controls—Discussion—Possible New Special Committee.

○ SC-216—Aeronautical Systems Security—Discussion—Revised Terms of Reference.

○ SC-213—Enhanced Flight Vision Systems & Synthetic Vision Systems—Discussion—Revised Terms of Reference.

○ SC-224—Airport Security Access Control Systems—Discussion—Revised Terms of Reference.

○ SC-229—Emergency Locator Transmitters (ELTs)—Discussion—Revised Terms of Reference.

○ SC-227—Standards of Navigation Performance—Discussion—Revised Terms of Reference.

○ SC-214—Standards for Air Traffic Data Communication Services—Discussion—Revised Terms of Reference.

○ SC-217—Aeronautical Data Bases—Discussion—DO-200B potential 3 month delay and new task on D-TAXI.

○ Design Assurance Guidance for Airborne Electronic Hardware—Discussion—Possible Update to DO-254.

○ Aeronautical Software Forum—Discussion—Status Update.

○ NAC—Status Update

○ FAA Actions Taken on Previously Published Documents—Report

○ Special Committees—Chairmen's Reports and Active Inter-Special Committee Requirements Agreements (ISRA)—Review

○ European/EUROCAE Coordination—Status Update

• OTHER BUSINESS

• SCHEDULE for COMMITTEE DELIVERABLES and NEXT MEETING DATE

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2014.
Mohannad Dawoud,
Management Analyst, NextGen, Business Operations Group Federal Aviation Administration.

[FR Doc. 2014-20822 Filed 8-29-14; 8:45 am]

BILLING CODE 4910-13-P